DEPARTMENT OF COMMERCE

Census Bureau

Performance Review Board Membership

AGENCY: Office of the Under Secretary for Economic Affairs, Department of Commerce.

ACTION: Notice.

SUMMARY: The Office of the Under Secretary for Economic Affairs (OUSEA) announces the appointment of members who will serve on the OUSEA Performance Review Board (PRB). The PRB is responsible for reviewing the appraisals and ratings recommended by the senior employees' supervisors and written responses from the senior employee, if any, as well as any other reviews requested, to ensure that recommended ratings are supported and appropriate in the OUSEA, Bureau of Economic Analysis and the US Census Bureau. The PRB provides recommendations to the Appointing Authority regarding the objectives and operation of the SES and ST performance appraisal and reward systems, as required. The purpose of the PRB is to provide fair and impartial review of senior executive service and senior professional performance ratings, bonus and pay adjustment recommendations and Presidential Rank Award nominations. The term of each PRB member will expire on December 31, 2025.

DATES: The date of service of appointees to the OUSEA Performance Review Board is based upon publication of this notice.

FOR FURTHER INFORMATION CONTACT: Latasha Ellis, SES Program Manager, Executive Resources Office, Human Resources Division, Census Bureau, 4600 Silver Hill Road, Washington, DC 20233, 301-763-9662.

SUPPLEMENTARY INFORMATION:

These appointments are announced in accordance with 5 U.S.C. 4314(c)(4).

The names and position titles of the members of the PRB are set forth below:

• Patricia Abaroa, Deputy Director, BEA

• Vipin Arora, Director, BEA

• Luis J. Cano, Chief Information Officer, Census Bureau

• Gregory Capella, Deputy Under Secretary, Bureau of Industry and Security

• Paul Farello, Associate Director for International Economics, BEA

• Douglas Follansbee, Chief Financial Officer, BEA

• Laura K. Furgione, Chief Administrative Officer, Census Bureau

• Thomas F. Howells III, Associate Director for Industry Accounts, BEA

• Kathleen James, Chief Administrative Officer, BEA

• Ron Jarmin, Deputy Director, Census Bureau

• Christa D. Jones, Chief of Staff, Census Bureau

• Ditas Katague, Associate Director for Communications, Census Bureau

• Sallie Keller, Associate Director for Research and Methodology, Census Bureau

• Zachary Learner, Director, Executive Secretariat, Office of the Secretary

• Edith J. McCloud, Senior Advisor to the Director, Office of Civil Rights

• Timothy Olson, Associate Director for Field Operations, Census Bureau

• Nick Orsini, Associate Director for Economic Programs, Census Bureau

• Mauricio Ortiz, Associate Director for Regional Economics, BEA

• Deborah Stempowski, Associate Director for Decennial Census, Census Bureau

• Victoria Velkoff, Associate Director for Demographic Programs, Census Bureau

• David Wasshausen, Associate Director for National Economic Accounts, BEA

• Oliver Wise, Chief Data Officer, OUSEA

• David R. Ziaya, Chief, Office of Program, Performance and Stakeholder Performance, and Stakeholder Integration, Census Bureau

Ron Jarmin, Deputy Director, Census Bureau, Chair, OUS/EA Performance Review Board approved the publication of this notice in the Federal Register.

Dated: October 10, 2023.
Shannon Wink,
Program Analyst, Policy Coordination Office, U.S. Census Bureau.

[FR Doc. 2023-23384 Filed 10-23-23; 8:45 am]

BILLING CODE 3510-BS-P